ENVIRONMENTAL PROTECTION AGENCY

[OPP-2004-0365; FRL-7699-6]

Tributyltin Methacrylate; Product Cancellation Order

AGENCY: Environmental Protection Agency (EPA).

ACTION: Notice.

SUMMARY: This notice announces EPA's order for the cancellation, voluntarily requested by the registrant and accepted by the Agency, of a product containing the pesticide tributyltin methacrylate, pursuant to section 6(f)(1) of the Federal Insecticide, Fungicide, and Rodenticide Act (FIFRA), as amended. This cancellation order follows a December 8, 2004 Federal Register Notice of Receipt of Request (69 FR 71042) (FRL-7688-3) from the registrant to voluntarily cancel its sole tributyltin methacrylate product registration. This is the last tributyltin methacrylate product registered for use in the United States. In the December 8, 2004 Notice, EPA indicated that it would issue an order implementing the cancellation unless the Agency received substantive comments within the 30-day comment period that would merit its further review of this request. The Agency received one comment on the Notice but it did not merit further review of the request Accordingly, EPA hereby issues in this notice a cancellation order granting the requested cancellation. Any distribution, sale, or use of the tributyltin methacrylate product subject to this cancellation order is permitted only in accordance with the terms of this order including any existing stocks provisions.

DATES: The cancellation is effective February 16, 2005.

FOR FURTHER INFORMATION CONTACT: Jill Bloom, Special Review and Reregistration Division (7508C), Office of Pesticide Programs, Environmental Protection Agency, 1200 Pennsylvania Ave., NW., Washington, DC 20460-0001; telephone number: (703) 308-8019; fax number: (703) 308-8041; e-mail address: bloom.jill@epa.gov.

SUPPLEMENTARY INFORMATION:

I. General Information

A. Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How Can I Get Copies of this Document and Other Related Information?

1. Docket. EPA has established an official public docket for this action under docket identification (ID) number OPP-2004-0365. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1801 S. Bell St., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to view public comments, access the index listing of the contents of the official public docket, and to access those documents in the public docket that are available electronically. Although not all docket materials may be available electronically, you may still access any of the publicly available docket materials through the docket facility identified in Unit I.B.1. Once in the system, select “Quick Search,” then key in the appropriate docket ID number.

II. What Action is the Agency Taking?

This notice announces the cancellation, as requested by the registrant, of an end-use antifouling paint product containing tributyltin methacrylate and registered under section 3 of FIFRA. This registration is described in the following Table of this unit.

Tributyltin Methacrylate Product Cancellation
EPA Registration No. | Product Name | Company Name and Address
44891-6 | Sea Hawk Biocop Antifouling Coating | New Nautical Coatings, Inc., 14805 49th Street, North Clearwater, FL 33762

III. Summary of Public Comments Received and Agency Response to Comments

One comment was received during the public comment period for the notice of receipt of the request to cancel EPA Registration Number 44891-6. This comment, which is available from the docket as document ID number OPP-2004-0365, made note of the commenter's belief that no sale of the affected product should be permitted after cancellation. The Agency had proposed that the registrant be allowed to continue to sell its product through December 31, 2005, and that all other persons would be permitted to sell and use the product until stocks were exhausted. The Agency based its proposal on the request of the registrant, and on the belief that the existing stocks were limited in quantity. The comment submitted to the docket provided no substantive reason for disallowing sale after the effective date of cancellation. For this reason, the Agency does not believe that this comment merits further review or a denial of the request for voluntary cancellation.

IV. Cancellation Order

Pursuant to FIFRA section 6(f), EPA hereby approves the requested cancellation of the tributyltin methacrylate registration identified in the Table of Unit II. Accordingly, the Agency orders that the tributyltin methacrylate registration identified in the Table of Unit II is hereby canceled. Any distribution, sale, or use of existing stocks of the product identified in the Table of Unit II in a manner inconsistent with any of the Provisions for Disposition of Existing Stocks set forth below in Unit VI will be considered a violation of FIFRA.

V. What is the Agency's Authority for Taking this Action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the Administrator may approve such a request.

VI. Provisions for Disposition of Existing Stocks

Existing stocks are those stocks of registered pesticide products which are currently in the United States and which were packaged, labeled, and released for shipment prior to the effective date of the cancellation action. The cancellation order issued in this Notice includes the following existing stocks provisions.

New Nautical Coatings will be permitted to sell or distribute existing stocks of its product, EPA Registration Number 44891-6, through December 31, 2005.

Persons other than the registrant are allowed to continue to sell and/or use existing stocks of the canceled product until such stocks are exhausted, provided that such use is consistent with the terms of the previously approved labeling on, or that accompanied, the canceled product. Any use of existing stocks that is not consistent with such previously approved labeling is prohibited.

List of Subjects

Environmental protection, Pesticides and pests.

Dated: February 7, 2005.
Debra Edwards,
Director, Special Review and Reregistration Division, Office of Pesticide Programs.

[FR Doc. 05-2978 Filed 2-15-05; 8:45 am]

BILLING CODE 6560-50-S